DEPARTMENT OF COMMERCE

Foreign-Trade Zones Board

[B-108-2013]

Foreign-Trade Zone (FTZ) 22—Chicago, Illinois, Notification of Proposed Production Activity, Electrolux Home Care Products Inc., (Kitting of Home Care Products), Minooka, Illinois

The Illinois International Port District, grantee of FTZ 22, submitted a notification of proposed production activity to the FTZ Board on behalf of Electrolux Home Care Products Inc. (Electrolux), located in Minooka, Illinois. The notification conforming to the requirements of the regulations of the FTZ Board (15 CFR 400.22) was received on December 19, 2013.

The Electrolux facility is located within Site 34 of FTZ 22. The facility is used for the distribution and kitting of floor care and other small home appliances. Pursuant to 15 CFR 400.14(b), FTZ activity would be limited to the specific foreign-status materials/components and specific finished products described in the submitted notification (as described below) and subsequently authorized by the FTZ Board.

Production under FTZ procedures could exempt Electrolux from customs duty payments on the foreign status materials/components used in export production. On its domestic sales, Electrolux would be able to choose the duty rates during customs entry procedures that apply to: C-clamp packages; elbows; handle bracket bushings; cable clamps; locks; belts; O-rings; sealing gaskets; support packages; filter bags; disposable bags; assembly bags; dust bags; maintenance packs; paper bags; dirt tube kits; paper adaptor bags; filters; zipper bags; duracloth steam mop pads; screws; bolt and nut assemblies; handle screw assemblies; screw and nut assemblies; hex, lock and push nuts; lock washers; spring washers; washer packages; rivets; E-rings; retaining rings; quarter turn retainers; catch springs; flap springs; springs; torque springs; wire racks; bake pans; pizza pans; coffee water filters; water filters; base assemblies; dust cup filters; paper filters; filter assemblies; frame and filter assemblies; HEPA filters; maintenance packs; rotex nozzles; valves; valves with rings; ball bearings; bearing and retainer assemblies; brushroll motors; motors; motors and gaskets; motor and gear assemblies; motor and pulley assemblies; motor assemblies; motor change kits; motor replacement kits; brushroll motor assemblies; drive motors; cartoned motor housing assemblies; HEPA motor and shroud assemblies; HEPA motor assemblies; powerhead, brushroll and belt assemblies; motor kits; boxed motors; powerhead motors; motor mounts; fan and bearing assembly armatures; field assemblies; armature replacement kits; washer packages; transformers; battery packs; battery/charger replacement kits; central vacuums; distribulator assemblies; bag adaptors; airspeed bagged modules; clamps; bag covers; bag cover assemblies; bag and exhaust cover assemblies; base and cap assemblies; base and idler clamp assemblies; brackets; brushes; brushroll powerhead assemblies; buckle assemblies; C-clamps; clamp and screw assembly packages; clean out port and screws; hose connector assemblies; control panel assemblies; cord reel pedals; titanium cord retainer assemblies; cord retainer sets; covers; cyclone assemblies; cyclone cover assemblies; carpet nozzles; dirt cup assemblies; dirt tube assemblies; dirt tube bases; dispensing tank assemblies; disturbulator assemblies; disturbulator repair kits; disturbulator replacement kits; dirt receptacles; dust cover replacement kits; dust cup assemblies; dust cup lid assemblies; packaged dust cups; central vacuum accessories; end caps and cover sets; exhaust grills; exhaust extensions; extended reach kits; fan chamber replacement kits; filter cover assemblies; floor nozzles; front covers; front wheel packages; guards; handle and hose assemblies; handle grip assemblies; handle pin packages; handle release/spring assemblies handle socket and foot pedal kits; hood and furniture guard assemblies; hood and nameplate assemblies; hose and coupling assemblies; hose and wand assemblies; hoses; housing assemblies; idler and base kits; dirt cup conversion kits; power head base assembly kits; latch assemblies; middle covers; motor cover assemblies; necks; outer lids; pedal plates; rear housings; recovery tank assemblies; screw packages; soleplate assemblies; support and latch assemblies; switch pedals; switch pedal assemblies; top covers; tubes; telescopic wands; water tank assemblies; wheel and axle assembles; wheel retainer assemblies; wheel/bushing packages; rear wheels; blade assemblies; blender collars; blender jars; blender pour lids; dustbag lids; hood assemblies; boiler assemblies; carafe lids; ceramic pots; coffee carafes; crumb trays; drip trays; filter basket holders; goldtone coffee filters; grill plates; oven crumb trays; rubber feet; slow cooker lids; water filter holders; electromagnetic interference boards; switches; sockets; circuit boards; control modules; main control boards, PCB panels; power cord and PCB assemblies; remotes; speed regulators; rear display boards; cord and terminal assemblies; cord reel assemblies; handle sockets and cord kits; wire harnesses; bristle strips; brushroll assemblies; bristled combination brushes; dusting brushes; floor and wall brushes and elbows; powerbrushes; and, turbo nozzle assemblies (duty rate ranges from duty-free to 8.5%) for the foreign status materials/components noted below. Customs duties also could possibly be deferred or reduced on foreign status production equipment.

The materials/components sourced from abroad include: C-clamps; foam filters; polystyrene packs; handle bracket bushings; cable clamps; gaskets; locks; belts; blender sealing gaskets; bushings; O-rings; boot seals; caps; rubber motor supports; cartons; disposable, dust and paper bags; UPC labels; felt bases; filters; assembly bags; anti-allergy bags; dirt cup assemblies; synthetic bag packages; duracloth mop pads; drycloth mop pads; odor-absorbing pads; motor, shoulder, tapping, machine, and round head Phillips screws; screw assemblies; hex and lock nuts; spring washers; lock washers; washers; shoulder rivets; cotter pins; E-rings; latch, pedal, coil and torque springs; wire racks; bake pans; retaining rings; bushing axles; pizza pans; water filters; filter and frame assemblies; HEPA filters; washable filters; filter cover and graphics assemblies; cap and bearing assemblies; retainer, bearing and washer assemblies; fan units with suspension; motors; motor assemblies; nozzle motors; suction motors; motor and pulley assemblies; motor housing assemblies; HEPA motor assemblies; armature fan and bearing assemblies; fan washers; field assemblies; battery chargers; battery packs; motor adapters; air tubes; axles; bag adapter assemblies; bag cover assemblies; bases; bearing hubs; brushroll assemblies; clean out ports; combination tool assemblies; hose connector assemblies; cover assemblies; cyclone assemblies; deluxe carpet nozzles; dirt cup assemblies; dirt tube and overmold assemblies; dispensing tank assemblies; disturbulator assemblies; dust cups; electric hose assemblies; exhaust grill assemblies; extension hoses; filter baskets; floor nozzles; front covers; front wheels; carrier and graphics assembly guards; handle assemblies; hoods; hose assemblies; housing assemblies; power head base assemblies; rotor knobs; lower blow hoses; lower cord wraps; lower hose hooks; lower nozzle assemblies; machine covers; motor covers; nesting wand assemblies; control panels; foot pedals; powerhead assemblies; rear handle pivots; retainer cords; roll assemblies; separator assemblies; soleplate assemblies; squeegees; dirt cup support and latch assemblies; switch pedals; upper nozzle assemblies; water tank assemblies; wheels; blender replacements; ceramic tanks; coffee carafes; coffee filters; complete boiler assemblies; crumb trays; left grill plates; lid assemblies; press drip trays; rubber feet; 240 volt EMI boards; thermostats; switch assemblies; lamp sockets; circuit boards; power cord and PCB assemblies; speed regulators; actuators-plungers; lamps-headlights; rear display boards; cord and plug assemblies; handle sockets and cord kits; motor brush assemblies; bristle strip assemblies; nozzles; and, powerbrushes (duty rate ranges from duty-free to 8.5%). The request indicates that spring washers (HTSUS 7318.21.0030) are subject to an antidumping/countervailing duty (AD/CVD) order. The FTZ Board's regulations (15 CFR 400.14(e)) require that merchandise subject to AD/CVD actions be admitted to the zone in privileged foreign status (19 CFR 146.41).

Public comment is invited from interested parties. Submissions shall be addressed to the Board's Executive Secretary at the address below. The closing period for their receipt is February 10, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: December 23, 2013.
Andrew McGilvray,
Executive Secretary.

[FR Doc. 2013-31274 Filed 12-27-13; 8:45 am]

BILLING CODE 3510-DS-P